DEPARTMENT OF DEFENSE

Office of the Secretary

Selection Criteria—Transportation Infrastructure Improvements Associated With Medical Facilities Related to Recommendations of the 2005 Defense Base Closure and Realignment Commission

AGENCY: Office of Economic Adjustment (OEA), Department of Defense (DoD).

ACTION: Final notice.

SUMMARY: This notice responds to comments on the selection criteria to be used to select grant applicants for funding from the Office of Economic Adjustment (OEA) for construction of Transportation Infrastructure Improvements associated with medical facilities related to recommendations of the 2005 Defense Base Closure and Realignment Commission. The July 21, 2011, Federal Register notice announced proposal requirements, the deadline for submitting proposals, and the criteria that will be used to select proposals. Because this is a new one-time program, however, the July 21, 2011, notice also requested comments on the proposed selection criteria for these grants, as provided in Section V, paragraph 1, of that notice. This notice responds to the comments that were received and issues the final selection criteria for the program.

FOR FURTHER INFORMATION CONTACT: David F. Witschi, Associate Director, OEA, telephone: (703) 604-6020, e-mail: david.witschi@wso.whs.mil.

SUPPLEMENTARY INFORMATION: Federal Funding Opportunity Title: Transportation Infrastructure Improvements associated with medical facilities related to recommendations of the 2005 Defense Base Closure and Realignment Commission.

Announcement Type: Federal Funding Opportunity.

Catalog of Federal Domestic Assistance (CFDA) Number: 12.600.

Background—Funding Opportunity Description

OEA, a DoD Field Activity, is authorized by Section 8110 of Public Law 112-10, the Department of Defense and Full-Year Continuing Appropriations Act, 2011, to provide up to $300 million “for transportation infrastructure improvements associated with medical facilities related to recommendations of the Defense Base Closure and Realignment Commission.” On July 21, 2011, OEA issued a Federal Funding Opportunity notice for these funds in the Federal Register that announced proposal requirements, the deadline for submitting proposals, and the criteria that will be used to select proposals. Because this is a new one-time program, however, the July 21, 2011, notice also requested comments on the proposed selection criteria for these grants. This notice responds to comments that were received and issues the final selection criteria for the program (Section V, paragraphs 1.(a) through 1.(d) of the July 21, 2011 notice). All other information, including the proposal submission date and application and submission information announced in the July 21, 2011, notice, remains unchanged. The 30-day comment period for the selection criteria ended on August 19, 2011.

Comments and Responses—Seven respondents provided a total of four different comments. The public comments were considered by OEA in determining the final selection criteria for the program.

Comment 1: One commenter agreed with the selection criteria and proposed no changes.

Comment 2: One commenter proposed no changes to the selection criteria, but requested additional information regarding the disbursement process to be used both for direct OEA grants and if the funds are to be passed through another Federal agency for implementation.

Response: For direct OEA construction grants, disbursement to the grantee will be by the reimbursement method. In the event OEA chooses to enter into an interagency agreement with another Federal agency to implement a particular project, OEA will transfer those funds directly to the other Federal agency after execution of an interagency agreement.

Comment 3: Four commenters noted that selection criterion (b) does not clearly address the transportation impacts on the community, noting that any expenditure of funds related to BRAC-affected areas should expressly take into consideration the larger effects on the community outside the perimeter of a military facility. They requested that the medical facility and its needs be considered in the broader context of the larger community—business and residential—in which it resides.

Response: Although selection criterion (b) was intended to capture the overall magnitude of the transportation problem, to include its effect on the surrounding community, we agree that this criterion lacked sufficient clarity on that point. Therefore, selection criterion (b) has been modified to state more clearly that the effect on the surrounding community is also being considered.

Comment 4: One commenter requested the addition of three new criteria addressing: (i) The extent to which the project contributes to on-base parking demand (negative factor) or relieves parking demand (positive factor); (ii) the effect of a project on pedestrian, bicycle, and transit access to the DoD facility; and (iii) the degree of mitigation (positive factor) or contribution to vulnerability to a terrorist attack or major accident (negative factor) of an existing or proposed transportation facility.

Response: The commenter raises several valid issues pertaining to specific design considerations/effects that may be relevant to a project depending on the nature of the transportation problem and the proposed solution. Rather than create additional criteria, however, we believe these issues can be adequately addressed with a modification to selection criterion (d) that addresses the degree to which a project resolves a transportation issue. We have, therefore, added these issues as examples in selection criterion (d) of how a project might resolve a transportation issue.

Final Selection Criteria—Accordingly, Section V, paragraphs 1.(a) through 1.(d) of the July 21, 2011, notice are revised and re-issued as follows:

1. Selection Criteria—Upon validating the eligibility of the interested respondent to apply for assistance, an evaluation panel, designated by OEA, evaluates proposal content conforming to this notice as the basis for inviting a formal grant application. The proposed selection criteria, with relative weights, are:

(a) The extent to which the transportation issue impedes the provision of care, i.e., the military medical mission (e.g., the greater the number of patients, patient visitors and patient care workers impacted, the more serious the consequences to patients, etc., the higher the score), 25%;

(b) The magnitude (e.g. overall number of people affected, degree of failure, etc.) of the transportation issue that affects the military medical facility and its surrounding community, expressed in terms of accepted and appropriate transportation planning and assessment techniques (the greater the magnitude of the issue, the higher the score), 25%;

(c) The applicant's ability to execute the proposed project, including the extent of other funding for the project and the ability to meet project timelines and budgets, acquire site control, permits or concurrences of affected parties, etc. (the greater the demonstration of the applicant's ability, the greater the score), 25%; and

(d) The extent to which the proposed construction project resolves the transportation issue (e.g., improves both vehicular and non-vehicular access to the facility; reduces parking demand; improves public safety and mitigates potential vulnerability to a major accident or incident, etc. The more the project does to resolve the transportation issue, the higher the score), 25%.

All other information announced in the July 21, 2011 notice, including the proposal submission deadline and application and submission information, remains unchanged.

Dated: September 2, 2011.
Aaron Siegel,
Alternate OSD Federal Register Liaison Officer, Department of Defense.

[FR Doc. 2011-23041 Filed 9-8-11; 8:45 am]

BILLING CODE 5001-06-P